OFFICE OF THE UNITED STATES TRADE REPRESENTATIVE

[Docket Number USTR-2023-0004]

Extension of Comment Period: Advancing Inclusive, Worker-Centered Trade Policy

AGENCY: Office of the U.S. Trade Representative (USTR).

ACTION: Extension of comment period.

SUMMARY: On June 12, 2023, USTR requested comments on how to design trade and investment policy to expand the benefits of trade to underserved and marginalized communities in the United States and trading partners that share concerns about rising inequality. To develop inclusive objectives and positions in all trade and investment policy areas for both enhanced engagement and subsequent negotiations, USTR is extending the 60-day comment period.

DATES: September 29, 2023 at 11:59pm ET: Deadline for submission of written comments. USTR will review comments received after this date for future advisory, communication, and outreach efforts.

ADDRESSES: USTR strongly prefers electronic submissions made through the Federal eRulemaking Portal: https://www.regulations.gov. Follow the instructions for submitting written comments in in sections II and III of the notice published on June 12, 2023 (88 FR 38118), using Docket Number USTR-2023-0004. For alternatives to on-line submissions, please contact Megan Paster, Attorney-Advisor, in advance of the deadline at InclusiveTrade@ustr.eop.gov, or (202) 395-6116.

FOR FURTHER INFORMATION CONTACT: Megan Paster, Attorney-Advisor, in advance of the deadline at InclusiveTrade@ustr.eop.gov, or (202) 395-6116.

SUPPLEMENTARY INFORMATION: On June 12, 2023, USTR requested comments on how to design trade and investment policy to expand the benefits of trade to underserved and marginalized communities in the United States and trading partners that share concerns about rising inequality. See 88 FR 38118. To develop inclusive objectives and positions in all trade and investment policy areas for both enhanced engagement and subsequent negotiations, USTR is extending the 60-day comment period until September 29, 2023, 11:59pm ET.

To ensure consideration, you should submit comments before the September 29, 2023 11:59pm ET deadline. Follow the instructions for submitting written comments in in sections II and III of the June 12th notice (88 FR 38118), using Docket Number USTR-2023-0004.

Jamila Thompson,
Senior Advisor to the U.S. Trade Representative, Office of the United States Trade Representative.

[FR Doc. 2023-19040 Filed 9-1-23; 8:45 am]

BILLING CODE 3390-F3-P